DEPARTMENT OF COMMERCE

National Oceanic and Atmospheric Administration

[I.D. 020504D]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Groundfish Oversight Committee in March, 2004. Recommendations from the committee will be brought to the full Council for formal consideration and action, if appropriate.

DATES: The meeting will held on Tuesday, March 2, 2004 at 9:30 a.m.

ADDRESSES: The meeting will be held at the Holiday Inn by the Bay, 88 Spring Street, Portland, ME 04101; telephone: (207) 775-2311.

Council address: New England Fishery Management Council, 50 Water Street, Newburyport, MA 01950.

FOR FURTHER INFORMATION CONTACT: Paul J. Howard, Executive Director, New England Fishery Management Council; telephone: (978) 465-0492.

SUPPLEMENTARY INFORMATION: The Groundfish Oversight Committee will meet to develop alternatives for Framework 40 (FW 40) to the Northeast Multispecies Fishery Management Plan (FMP). FW 40 will identify opportunities to use regular and reserve Category B Days-At-Sea (DAS). In addition, it will consider changing 10 Category C DAS to 10 Category B (reserve) DAS for those vessels that will not receive Category A or Category B DAS under Amendment 13. FW 40 will also consider changes to the conservation tax applied in the DAS leasing and DAS transfer programs. The Committee will receive the report of the Groundfish Advisory Panel and will develop specific details of proposed measures that, subject to Council approval, will be included in FW 40. The Committee will also discuss other business, including receiving the report of the Advisory Panel on steaming time issues.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: February 6, 2004.
Tracey Thompson,
Acting Director, Office of Sustainable Fisheries, National Marine Fisheries Service.

[FR Doc. E4-252 Filed 2-11-04; 8:45 am]

BILLING CODE 3510-22-S